DEPARTMENT OF COMMERCE

National Oceanic and Atmospheric Administration

50 CFR Part 679

RIN 0648-BM40

Fisheries of the Exclusive Economic Zone Off Alaska; Amendment 126 to the Fishery Management Plans for Groundfish of the Bering Sea/Aleutian Islands Management Area and Amendment 114 to the Fishery Management Plan for Groundfish of the Gulf of Alaska To Expand Electronic Monitoring to the Pollock Fisheries

AGENCY: National Marine Fisheries Service (NMFS), National Oceanic and Atmospheric Administration (NOAA), Commerce.

ACTION: Notice of availability of fishery management plan amendment; request for comments.

SUMMARY: The North Pacific Fishery Management Council (Council) submitted Amendment 126 to the Fishery Management Plans for Groundfish of the Bering Sea/Aleutian Islands Management Area (BSAI FMP) and Amendment 114 to the Fishery Management Plan for Groundfish of the Gulf of Alaska (GOA FMP). If approved, Amendments 126/114 would expand electronic monitoring (EM) to pelagic trawl pollock catcher vessels and tenders delivering to shoreside processors or stationary floating processors in the Bering Sea, Aleutian Islands, and Gulf of Alaska. Amendments 126/114 are intended to promote the goals and objectives of the Magnuson-Stevens Fishery Conservation and Management Act (Magnuson-Stevens Act), the BSAI FMP, and the GOA FMP.

DATES: Comments must be received no later than March 22, 2024.

Public Meetings:

1. February 28, 2024, 6 p.m. Alaska local time, Kodiak, AK.

2. March 12, 2024, 6 p.m. Pacific time, Virtual (see ADDRESSES for link).

ADDRESSES: You may submit comments on this document, identified by NOAA-NMFS-2023-0125, by any of the following methods:

• Electronic Submission: Submit all electronic public comments via the Federal e-Rulemaking Portal. Go to https://www.regulations.gov and type NOAA-NMFS-2023-0125 in the Search box (note: copying and pasting the FDMS Docket Number directly from this document may not yield search results). Click on the “Comment” icon, complete the required fields, and enter or attach your comments.

• Mail: Submit written comments to Gretchen Harrington, Assistant Regional Administrator, Sustainable Fisheries Division, Alaska Region NMFS. Mail comments to P.O. Box 21668, Juneau, AK 99802-1668.

• Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

Electronic copies of Amendment 126 to the BSAI FMP and Amendment 114 to the GOA FMP, the Environmental Assessment/Regulatory Impact Review prepared for this action (the Analysis), and the Finding of No Significant Impact prepared for this action may be obtained from https://www.regulations.gov and the NMFS Alaska Region website at https://www.fisheries.noaa.gov/region/alaska.

Pursuant to section 313(c) of the Magnuson-Stevens Act, NMFS will hold public hearings to accept oral and written comments on the proposed rule during the public comment period. The first public hearing will be held at the Kodiak Fisheries Research Center, 301 Research Court, Kodiak, Alaska 99615. The second public hearings will be held virtually, available at https://meet.google.com/gcz-emgh-kkw.

FOR FURTHER INFORMATION CONTACT: Joel Kraski, joel.kraski@noaa.gov, (907) 586-7228.

SUPPLEMENTARY INFORMATION: The Magnuson-Stevens Act requires that each regional fishery management council submit any FMP amendment it prepares to NMFS for review and approval, disapproval, or partial approval by the Secretary of Commerce. The Magnuson-Stevens Act also requires that NMFS, upon receiving an FMP amendment, immediately publish a notice in the Federal Register announcing that the amendment is available for public review and comment. This notice announces that proposed Amendment 126 to the BSAI FMP and Amendment 114 to the GOA FMP are available for public review and comment.

The Council prepared, and the Secretary approved, the BSAI FMP and GOA FMP under the authority of the Magnuson-Stevens Act (16 U.S.C. 1801 et seq.). The BSAI FMP and GOA FMP are implemented by regulations governing U.S. fisheries at 50 CFR parts 600 and 679.

Amendments 126/114 would amend the Council's fisheries research plan prepared under the authority of section 313 of the Magnuson-Stevens Act. NMFS published regulations implementing the plan on November 21, 2012 (77 FR 70062) and integrated EM into the plan on August 8, 2017 (82 FR 36991). The Secretary implements the fisheries research plan through the North Pacific Observer Program (Observer Program). Its purpose is to collect data necessary for the conservation, management, and scientific understanding of the groundfish and halibut fisheries off Alaska.

The Council's intent in recommending Amendments 126/114 is to improve salmon accounting, reduce monitoring costs, improve the quality of monitoring data, and modify current retention and/or discard requirements as necessary to achieve these objectives in association with catcher vessels using trawl gear in the BS, AI, and GOA Pollock fisheries along with associated tender vessels and processors.

Amendment 126 would add to section 3.9.2 of the BSAI FMP and Amendment 114 would add to section 3.9.2 of the GOA FMP to allow the use of EM systems to meet fisheries monitoring requirements under the Observer Program.

Amendments 126/114 would create an EM option—the trawl EM category—for pelagic trawl pollock catcher vessels and tender vessels delivering to a shoreside processor or stationary floating processor in the Bering Sea, Aleutian Islands, and Gulf of Alaska. The BSAI and GOA FMPs currently authorize the use of EM in the partial coverage category, but not the full observer coverage category of the Observer Program. Under this voluntary program, eligible catcher vessels and tender vessels would apply annually for entry into the trawl EM category. Shoreside processors and stationary floating processors would indicate that they intend to receive trawl EM category deliveries during their annual Catch Monitoring Control Plan process.

Amendments 126/114 would allow for monitoring to be conducted by an EM system on board both full and partial coverage trawl catcher vessels combined with sampling by observers stationed at shoreside or stationary floating processors. For fishing trips in the trawl EM category, the responsibilities normally conducted by at-sea observers would be completed by observers stationed at the shoreside or stationary floating processor plant. All fishing trips would operate under improved retention (i.e., minimize discards to the greatest extent practicable) and be recorded by EM as a compliance tool; all video is reviewed and verified using logbook entries to ensure the program elements are followed.

The use of EM and maximized retention on vessels would allow for observers to collect unbiased data at the shoreside or stationary floating processors. Shoreside and stationary floating processors would indicate their intent to receive EM deliveries during Catch Monitoring Control Plan approval process to join the trawl EM program annually. Shoreside and stationary floating processors would also indicate whether they expect to use tender vessels.

NMFS is soliciting public comments on proposed Amendments 126/114 through the end of the comment period (see DATES). NMFS intends to publish in the Federal Register and seek public comment on a proposed rule that would implement Amendments 126/114 following NMFS's evaluation of the proposed rule under the Magnuson-Stevens Act.

Section 313 of the Magnuson-Stevens Act requires NMFS to provide a 60-day public comment period on the proposed rule and conduct a public hearing in each state represented on the Council for the purpose of receiving public comment on the proposed regulations. The states represented on the Council are Alaska, Oregon, and Washington. NMFS will conduct a public hearing at a physical location in Alaska, and hold a virtual public hearing for Washington and Oregon (see DATES).

People wanting to make an oral statement for the record at the a public hearing are encouraged to submit a written copy of their statement to NMFS using one of the methods identified under ADDRESSES. If attendance at the public hearing is large, the time allotted for individual oral statements may be limited. Oral and written statements receive equal consideration. There are no limits on the length of written comments submitted to NMFS. Respondents do not need to submit the same comments on Amendments 126/114 and the proposed rule. All relevant written comments received by the end of the applicable comment period, whether specifically directed to the FMP amendments or this proposed rule, will be considered by NMFS in the approval/disapproval decision for Amendments 126/114 and addressed in the response to comments in the final decision. Comments received after the end of the comment period may not be considered in the approval/disapproval decision on Amendment 126/114. To be certain of consideration, comments would need to be received, not just postmarked or otherwise transmitted, by the last day of the comment period (see DATES).

Authority: 16 U.S.C. 1801 et seq.

Dated: January 17, 2024.
Everett Wayne Baxter,
Acting Director, Office of Sustainable Fisheries, National Marine Fisheries Service.

[FR Doc. 2024-01120 Filed 1-19-24; 8:45 am]

BILLING CODE 3510-22-P